DEPARTMENT OF ENERGY

Federal Energy Regulatory Commission

[Project No. 3633-042]

Brighton Hydroelectric Project; Notice of Intent To File License Application, Filing of Pre-Application Document, and Approving Use of the Traditional Licensing Process

a. Type of Filing: Notice of Intent to File License Application and Request to Use the Traditional Licensing Process.

b. Project No.: 3633-042.

c. Date Filed: August 30, 2019.

d. Submitted By: KC Brighton, LLC (KC Brighton).

e. Name of Project: Brighton Hydroelectric Project.

f. Location: Located on the Patuxent River in Howard and Montgomery counties, Maryland. The project does not occupy any federal land.

g. Filed Pursuant to: 18 CFR 5.3 of the Commission's regulations

h. Potential Applicant Contact: Mr. Richard Ely, KC Brighton, LLC, 27264 Meadowbrook Drive, Davis, CA 95618, (530) 753-8864; email—Dick@DavisHydro.com.

i. FERC Contact: Chris Millard at (202) 502-8256; or email at christopher.millard@ferc.gov.

j. KC Brighton filed a request to use the Traditional Licensing Process on August 30, 2019 and provided public notice of the request on September 17, 2019. In a letter dated April 28, 2020, the Director of the Division of Hydropower Licensing approved KC Brighton's request to use the Traditional Licensing Process.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Maryland State Historic Preservation Officer, as required by section 106, National Historic Preservation Act, and the implementing regulations of the Advisory Council on Historic Preservation at 36 CFR 800.2.

l. KC Brighton filed a Pre-Application Document (PAD; including a proposed process plan and schedule) with the Commission, pursuant to 18 CFR 5.6 of the Commission's regulations.

m. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERC OnlineSupport@ferc.gov, (866) 208-3676 (toll free), or (202) 502-8659 (TTY).

n. The licensee states its unequivocal intent to submit an application for a subsequent license for Project No. 3633. Pursuant to 18 CFR 16.20, each application for a subsequent license and any competing license applications must be filed with the Commission at least 24 months prior to the expiration of the existing license. All applications for license for this project must be filed by August 31, 2022.

o. Register online at http://www.ferc.gov/docs-filing/esubscription.asp to be notified via email of new filing and issuances related to this or other pending projects. For assistance, contact FERC Online Support.

Dated: April 28, 2020.
Kimberly D. Bose,
Secretary.

[FR Doc. 2020-09436 Filed 5-1-20; 8:45 am]

BILLING CODE 6717-01-P